DEPARTMENT OF INTERIOR

Fish and Wildlife Service

Proposed Safe Harbor Agreement for Fender's Blue Butterfly and Kincaid's Lupine in the Dallas Oak Savanna, Polk County, OR

AGENCY: Fish and Wildlife Service, Interior.

ACTION: Notice of availability.

SUMMARY: The Fish and Wildlife Service (we, the Service) has received an application from Clem and Barbara Starck (Applicants) for an enhancement of survival permit pursuant to section 10(a)(1)(A) of the Endangered Species Act, as amended (ESA). The permit application includes a proposed Safe Harbor Agreement (Agreement) between the Applicants and the Service that allows for management and conservation of the endangered Fender's blue butterfly (Icaricia icarioides fenderi) and the threatened Kincaid's lupine (Lupinus sulphureus kincaidii) on approximately 20 acres (ac) of land owned and managed by the Applicants. The Agreement is intended to facilitate the implementation of conservation measures for the species and to support on-going efforts to reintroduce Kincaid's lupine into areas where it historically occurred and where Fender's blue butterfly will be encouraged to colonize. The Applicants propose to introduce Kincaid's lupine onto their lands and conduct related monitoring activities with the assistance of the Institute for Applied Ecology. Although the Fender's blue butterfly does not currently occur on the property, restoration of its native habitat might encourage colonization over time. If natural colonization appears to be unlikely, introduction of the butterfly to the restored habitat would be considered.

The proposed Agreement and ESA survival enhancement permit may be eligible for categorical exclusion under the National Environmental Policy Act of 1969 (NEPA). This is evaluated in an Environmental Action Statement, which is also available for public review.

DATES: Written comments must be received by close of business on February 19, 2004.

ADDRESSES: Comments should be addressed to Kemper McMaster, State Supervisor, Oregon Fish and Wildlife Office, 2600 SE 98th Avenue, Suite 100, Portland, Oregon 97266, facsimile number (503) 231-6195 (see SUPPLEMENTARY INFORMATION, Public Review and Comment).

FOR FURTHER INFORMATION CONTACT: Richard Szlemp, Fish and Wildlife Service Biologist, at the above address or by calling (503) 231-6179.

SUPPLEMENTARY INFORMATION:

Public Review and Comment

Individuals wishing copies of the permit application, the Environmental Action Statement, or copies of the full text of the proposed Agreement should contact the office and personnel listed in the ADDRESSES section above. Documents also will be available for public inspection, by appointment, during normal business hours at this office (see ADDRESSES).

The Service provides this notice pursuant to section 10(c) of the ESA and pursuant to implementing regulations for NEPA (40 CFR 1506.6). All comments received on the permit application and proposed Agreement, including names and addresses, will become part of the administrative record and may be released to the public. If you wish us to withhold your name and/or address, you must state this prominently at the beginning of your comment. All submissions from organizations or companies, or from individuals representing organizations or companies, are available for public inspection in their entirety.

Background

Fender's blue butterfly is one of about a dozen subspecies of Boisduval's blue butterfly (Icaricia icarioides). Boisduval's blue butterfly is found in western North America; the subspecies, fenderi, is restricted to the Willamette Valley, Oregon. This subspecies was thought to be extinct until its rediscovery in Benton County in 1989. Kincaid's lupine is a subspecies of the sulfur lupine (Lupinus sulphureus), which occurs on upland prairie habitats in western North America from British Columbia to California. Kincaid's lupine is the primary larval food plant for Fender's blue butterfly.

Past conversion of land to agriculture, urban development, fire suppression, and other factors have reduced upland prairie to approximately 988 ac, which is approximately 0.01 percent of its former range. Of this remaining prairie habitat, Fender's blue butterfly occupies approximately 408 ac and Kincaid's lupine occupies about 370 ac. The threat of habitat loss in remnant prairies continues through habitat destruction or degradation due to agriculture, urban development, forestry, grazing, roadside maintenance, and commercial Christmas tree farming. Sites not threatened by habitat destruction are threatened by herbivory, competition by nonnative species, and plant succession. Over half of the sites occupied by Fender's blue butterfly and Kincaid's lupine are privately owned, necessitating conservation actions on non-Federal lands to recover the species.

The Applicants, in partnership with the Service through the Partners for Fish and Wildlife Program, propose to enter into an agreement to restore approximately 20 ac of upland prairie oak savanna habitat (Agreement #13420-1-J134). The project area had been a hay field and horse pasture and was covered with a variety of hay grasses and weeds, including Himalayan blackberry and Queen Anne's lace. The project site consists of two fields, both of which have large Oregon white oaks growing along the edges. The site was determined to be suitable for introduction of Kincaid's lupine and may eventually support Fender's blue butterfly.

As described in the proposed Agreement, the Applicants and the Service would agree to carry out management activities that would restore 20 ac of oak savanna habitat for Kincaid's lupine and Fender's blue butterfly. The Applicants will maintain the habitat for a period of 15 years by controlling invasive plant species via bi-annual perimeter mowing, burning, or other means. In return for these voluntary conservation commitments, an ESA 10(a)(1)(A) permit, if approved, would extend assurances to the Applicants, including authorization to return the property to its original baseline condition at the end of the 15-year term of the Agreement.

The Service would be responsible for annual compliance monitoring related to implementation of the proposed Agreement and fulfillment of its provisions. The Institute for Applied Ecology, per the Partners for Fish and Wildlife Program contract, will monitor effectiveness of the introduction and survivorship of Kincaid's lupine seeds and seedlings.

We will evaluate the permit application, the proposed Agreement, and comments submitted thereon to determine whether the application meets the requirements of section 10(a) of the Act and applicable regulations. If the requirements are met, the Service will sign the proposed Agreement and issue an enhancement of survival permit under section 10(a)(1)(A) of the Act to the applicant for take of Fender's blue butterfly as a result of activities incidental to otherwise lawful activities of the project. Kincaid's lupine would be included on the permit in recognition of the conservation benefits provided to it under the Agreement as a result of restoration and recovery activities. The Service will not make a final decision without full consideration of all comments received during the comment period.

Dated: December 22, 2003.
David Wesley,
Deputy Regional Director, Region 1, Portland, Oregon.

[FR Doc. 04-1095 Filed 1-16-04; 8:45 am]

BILLING CODE 4310-55-P